INTERNATIONAL TRADE COMMISSION

[USITC SE-01-037]

Sunshine Act Meeting

Agency Holding the Meeting: United States International Trade Commission.

Time and Date: November 2, 2001 at 11 a.m.

Place: Room 101, 500 E Street SW., Washington, DC 20436, Telephone: (202) 205-2000.

Status: Open to the public.

Matters to be Considered: 1. Agenda for future meeting: none.

2. Minutes.

3. Ratification List.

4. Inv. Nos. 701-TA-403 and 731-TA-895-896 (Final)(Pure Magnesium from China and Israel)—briefing and vote. (The Commission is currently scheduled to transmit its determination and Commissioners' opinions to the Secretary of Commerce on November 9, 2001).

5. Inv. Nos. 701-TA-405-408 and 731-TA-899-904 and 906-908 (Final)(Hot-Rolled Steel Products from China, India, Indonesia, Kazakhstan, the Netherlands, Romania, South Africa, Taiwan, Thailand, and Ukraine)—briefing and vote. (The Commission is currently scheduled to transmit its determination and Commissioners' opinions to the Secretary of Commerce on November 13, 2001).

6. Outstanding action jackets: none.

In accordance with Commission policy, subject matter listed above, not disposed of at the scheduled meeting, may be carried over to the agenda of the following meeting.

By order of the Commission.

Issued: October 25, 2001.
Donna R. Koehnke,
Secretary.

[FR Doc. 01-27338 Filed 10-26-01; 11:15 am]

BILLING CODE 7020-02-P